DEPARTMENT OF COMMERCE

National Oceanic and Atmospheric Administration

RIN 0648-XD914

Mid-Atlantic Fishery Management Council (MAFMC); Public Meeting

AGENCY: National Marine Fisheries Service (NMFS), National Oceanic and Atmospheric Administration (NOAA), Commerce.

ACTION: Notice of public meeting.

SUMMARY: The Scientific and Statistical Committee (SSC) of the Mid-Atlantic Fishery Management Council (Council) will hold a meeting.

DATES: The SSC meeting will be held on Wednesday and Thursday, May 13-14, 2015. The meeting will begin at 9 a.m. on May 13 and conclude by 2 p.m. on May 14.

ADDRESSES: The meeting will be held at Lord Baltimore Hotel, 20 West Baltimore Street, Baltimore, MD 21201; telephone: (410) 539-8400.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: Agenda items to be discussed at the SSC meeting include: Develop multi-year ABC specification for Atlantic mackerel; review shad/river herring cap in mackerel fishery; review data update and Fishery Performance Reports for long-finned squid, Illex squid, butterfish, surf clams and ocean quahogs; review butterfish mortality cap in the long-finned squid fishery; develop science and research needs for blueline tilefish; and receive an update on the Council's Research Plan.

Special Accommodations

The meeting is physically accessible to people with disabilities. Requests for sign language interpretation or other auxiliary aids should be directed to M. Jan Saunders at the Mid-Atlantic Council Office, (302) 526-5251, at least 5 days prior to the meeting date.

Dated: April 22, 2015.
Tracey L. Thompson,
Acting Deputy Director, Office of Sustainable Fisheries, National Marine Fisheries Service.

[FR Doc. 2015-09670 Filed 4-24-15; 8:45 am]

BILLING CODE 3510-22-P